DEPARTMENT OF ENERGY

Federal Energy Regulatory Commission

Combined Notice of Filings #1

May 1, 2008.

Take notice that the Commission has received the following Natural Gas Pipeline Rate and Refund Report filings:

Docket Numbers: RP96-320-088.

Applicants: Gulf South Pipeline Company, LP.

Description: Gulf South Pipeline Co, LP submits negotiated rate contracts re Southeast Expansion Project.

Filed Date: 04/29/2008.

Accession Number: 20080430-0153.

Comment Date: 5 p.m. Eastern Time on Monday, May 12, 2008.

Docket Numbers: RP96-272-075.

Applicants: Northern Natural Gas Company.

Description: Northern Natural Gas Company submits 51 Revised Sheet 66A et al to FERC Gas Tariff, Fifth Revised Volume 1.

Filed Date: 04/30/2008.

Accession Number: 20080501-0031.

Comment Date: 5 p.m. Eastern Time on Monday, May 12, 2008.

Docket Numbers: RP97-255-002.

Applicants: TransColorado Gas Transmission Company.

Description: TransColorado Gas Transmission Company LLC submits First Revised Sheet 23 to FERC Gas Tariff, Second Revised Volume 1.

Filed Date: 04/30/2008.

Accession Number: 20080501-0029.

Comment Date: 5 p.m. Eastern Time on Monday, May 12, 2008.

Docket Numbers: RP99-518-106.

Applicants: Gas Transmission Northwest Corporation.

Description: Gas Transmission Northwest Corp submits Forty-Fourth Revised Sheet 15 et al to FERC Gas Tariff, Third Revised Volume 1-A.

Filed Date: 04/30/2008.

Accession Number: 20080501-0032.

Comment Date: 5 p.m. Eastern Time on Monday, May 12, 2008.

Docket Numbers: RP00-426-034.

Applicants: Texas Gas Transmission, LLC.

Description: Texas Gas Transmission, LLC submits Second Revised Sheet 51A and Thirteenth Revised Sheet 56 to FERC Gas Tariff, Second Revised Volume 1.

Filed Date: 04/30/2008.

Accession Number: 20080501-0030.

Comment Date: 5 p.m. Eastern Time on Monday, May 12, 2008.

Docket Numbers: RP02-361-071.

Applicants: Gulfstream Natural Gas System, L.L.C.

Description: Gulfstream Natural Gas System, LLC submits Original Sheet 8.02m to FERC Gas Tariff, Original Volume 1, to be effective 5/1/08.

Filed Date: 04/29/2008.

Accession Number: 20080430-0154.

Comment Date: 5 p.m. Eastern Time on Monday, May 12, 2008.

Docket Numbers: RP08-198-001.

Applicants: Gulf South Pipeline Company, LP.

Description: Additional Information of Gulf South Pipeline Company, LP.

Filed Date: 04/14/2008.

Accession Number: 20080414-5032.

Comment Date: 5 p.m. Eastern Time on Thursday, May 8, 2008.

Docket Numbers: RP08-331-000.

Applicants: El Paso Natural Gas Company.

Description: El Paso Natural Gas Company submits Thirty-Fifth Revised Sheet 1 et al to FERC Gas Tariff, Second Revised Volume 1A, to be effective 5/30/08.

Filed Date: 04/29/2008.

Accession Number: 20080430-0155.

Comment Date: 5 p.m. Eastern Time on Monday, May 12, 2008.

Docket Numbers: RP08-332-000.

Applicants: Great Lakes Gas Transmission Limited Partnership.

Description: Great Lakes Gas Transmission, Limited Partnership submits Thirteenth Revised Sheet 3, Twelfth Revised Sheet 3B to FERC Gas Tariff, Second Revised Volume 1, to be effective 1/1/08.

Filed Date: 04/29/2008.

Accession Number: 20080430-0156.

Comment Date: 5 p.m. Eastern Time on Monday, May 12, 2008.

Docket Numbers: RP08-334-000.

Applicants: Algonquin Gas Transmission LLC.

Description: Algonquin Gas Transmission, LLC submits Second Revised Sheet 15 to FERC Gas Tariff, Fifth Revised Volume 1.

Filed Date: 04/30/2008.

Accession Number: 20080501-0028.

Comment Date: 5 p.m. Eastern Time on Monday, May 12, 2008.

Docket Numbers: RP08-337-000.

Applicants: ANR Pipeline Company.

Description: ANR Pipeline Company submits Fourth Revised Sheet 4 et al to FERC Gas Tariff, Second Revised Volume 1.

Filed Date: 04/30/2008.

Accession Number: 20080501-0037.

Comment Date: 5 p.m. Eastern Time on Monday, May 12, 2008.

Docket Numbers: RP08-339-000.

Applicants: Williston Basin Interstate Pipeline Co.

Description: Williston Basin Interstate Pipeline Company submits Eighteenth Revised Sheet 5 et al. to FERC Gas Tariff, Second Revised Volume 1, to become effective 4/30/08.

Filed Date: 04/30/2008.

Accession Number: 20080501-0039.

Comment Date: 5 p.m. Eastern Time on Monday, May 12, 2008.

Docket Numbers: RP08-340-000.

Applicants: Cheyenne Plains Gas Pipeline Company LLC.

Description: Cheyenne Plains Gas Pipeline Company LLC submits Sixth Revised Sheet 20 to its FERC Gas Tariff, Original Volume 1, to become effective 6/1/08.

Filed Date: 04/30/2008.

Accession Number: 20080501-0024.

Comment Date: 5 p.m. Eastern Time on Monday, May 12, 2008.

Docket Numbers: RP08-342-000.

Applicants: Blue Lake Gas Storage Company.

Description: Blue Lake Gas Storage Company submits First Revised Sheet 2A to FERC Gas Tariff, First Revised Volume 1, to become effective 6/1/08.

Filed Date: 04/30/2008.

Accession Number: 20080501-0023.

Comment Date: 5 p.m. Eastern Time on Monday, May 12, 2008.

Docket Numbers: RP08-343-000.

Applicants: Texas Gas Transmission, LLC.

Description: Texas Gas Transmission, LLC submits the Second Revised Sheet 12 et al. to FERC Gas Tariff, Second Revised Volume 1.

Filed Date: 04/30/2008.

Accession Number: 20080501-0035.

Comment Date: 5 p.m. Eastern Time on Monday, May 12, 2008.

Docket Numbers: RP08-344-000.

Applicants: ANR Storage Company.

Description: ANR Storage Company submits First Revised Sheet 2A for inclusion in their FERC Gas Tariff, Original Volume 1, to become effective 6/1/08.

Filed Date: 04/30/2008.

Accession Number: 20080501-0022.

Comment Date: 5 p.m. Eastern Time on Monday, May 12, 2008.

Docket Numbers: RP08-345-000.

Applicants: Distrigas of Massachusetts LLC.

Description: Distrigas of Massachusetts, LLC submits its Twenty-Fifth Revised Sheet 94 et al. to FERC Gas Tariff, First revised Volume 1.

Filed Date: 04/30/2008.

Accession Number: 20080501-0034.

Comment Date: 5 p.m. Eastern Time on Monday, May 12, 2008.

Docket Numbers: RP08-346-000.

Applicants: Southern Natural Gas Company.

Description: Southern Natural Gas Company submits Second Revised Sheet 5 et al. to FERC Gas Tariff, Seventh Revised Volume 1, to become effective 6/1/08.

Filed Date: 04/30/2008.

Accession Number: 20080501-0021.

Comment Date: 5 p.m. Eastern Time on Monday, May 12, 2008.

Docket Numbers: RP08-347-000.

Applicants: Columbia Gulf Transmission Company.

Description: Columbia Gulf Transmission Company submits Forty Fifth Revised Sheet 18 et al. to FERC Gas Tariff, Second Revised Volume 1, to become effective 6/1/08.

Filed Date: 04/30/2008.

Accession Number: 20080501-0019.

Comment Date: 5 p.m. Eastern Time on Monday, May 12, 2008.

Docket Numbers: RP08-348-000.

Applicants: Texas Eastern Transmission LP.

Description: Texas Eastern Transmission, LP submits Second Revised Sheet 11 et al. to FERC Gas Tariff, Seventh Revised Volume 1.

Filed Date: 04/30/2008.

Accession Number: 20080501-0033.

Comment Date: 5 p.m. Eastern Time on Monday, May 12, 2008.

Docket Numbers: RP08-349-000.

Applicants: Southern Natural Gas Company.

Description: Southern Natural Gas Company submits a refund report showing that there are no refunds to be distributed in 2008.

Filed Date: 04/30/2008.

Accession Number: 20080501-0020.

Comment Date: 5 p.m. Eastern Time on Monday, May 12, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-10173 Filed 5-7-08; 8:45 am]

BILLING CODE 6717-01-P